DEPARTMENT OF AGRICULTURE

Natural Resources Conservation Service

Notice of Proposed Changes to Section IV of the Arizona NRCS State Technical Guide

AGENCY: Natural Resources Conservation Service (NRCS), U.S. Department of Agriculture.

ACTION: Notice of availability of proposed changes in the Arizona NRCS State Technical Guide for review and comment.

SUMMARY: It has been determined by the NRCS State Conservationist for Arizona that changes must be made in the NRCS State Technical Guide, specifically in the Conservation Practice Standards. Specifically, Arizona will revise the NRCS National Practice Standards for use in Arizona.

DATES: Comments will be received for a 30-day period commencing with this date of publication.

FOR FURTHER INFORMATION CONTACT: Steve Barker, Rangeland Management Specialist, Natural Resources Conservation Service, 3003 North Central Avenue, Suite 800, Phoenix, AZ 85012; Phone: 602-280-8823; Fax: 602-280-8805.

SUPPLEMENTARY INFORMATION: Section 343 of the Federal Agriculture Improvement and Reform Act of 1996 states that revisions made after enactment of the law to NRCS State Technical Guides used to carry out highly erodible land and wetland provisions of the law shall be made available for public review and comment. For the next 30 days, the NRCS will receive comments relative to the proposed changes. Following that period, a determination will be made by the NRCS regarding disposition of those comments and a final determination of change will be made to the subject standards.

Dated: June 28, 2002.
Michael Somerville,
State Conservationist.

[FR Doc. 02-18910 Filed 7-25-02; 8:45 am]

BILLING CODE 3410-16-P